DEPARTMENT OF TRANSPORTATION

Federal Aviation Administration

14 CFR Part 95

[Docket No. 30459; Amdt. No. 457]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

EFFECTIVE DATES: 0901 UTC, October 27, 2005.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on September 28, 2005.
James J. Ballough,
Director, Flight Standards Service.

Adoption of the Amendment

Accordingly, pursuant to the authority delegated to me by the Administrator, part 95 of the Federal Aviation Regulations (14 CFR part 95) is amended as follows effective at 0901 UTC, October 27, 2005.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes & Changeover Points
[Amendment 457 effective date, October 27, 2005]
From | To | MEA
§ 95.1001 Direct Routes—U.S. Color Routes
§ 95.60 Blue Federal Airway B2 is amended to read in part
Tin City, AK NDB/DME | Fort Davis, AK NDB | *7000
*5900-MOCA
*6000-GNSS MEA
§ 95.6 Blue Federal Airway B37 is amended to read in part
Elephant, AK NDB | Sparl, AK FIX | *6000
*5000-MOCA
*5000-GNSS MEA
§ 95.1001 Direct Routes—U.S. Atlantic Routes—A761 is amended to delete
Hanri, OA FIX | Torry, FL FIX | 31000
Atlantic Routes—AR1 is amended to delete
Virginia Key, FL VOR/DME | Blufi, FL FIX | 5000
Blufi, FL FIX | Tarpo, FL FIX | 14000
Hobee, FL FIX | Wilmington, NC VORTAC | 25000
| MAA-45000
Atlantic Routes—AR7 is amended to delete
Vally, FL FIX | Zappa, BS FIX | 2000
Zappa, BS FIX | Benzi, BS FIX | 3000
Benzi, BS FIX | Permt, FL FIX | 6000
Permt, FL FIX | Adoor, FL FIX | 25000
Adoor, FL FIX | *Miloe, OA FIX | 25000
*18000-MRA | MAA-45000
*Miloe, OA FIX | **Panal, OA FIX | 2500
*18000-MRA
**18000-MRA | MAA-45000
*Panal, OA FIX | Dixon, NC NDB/DME | 2500
*18000-MRA | MAA-45000
Atlantic Routes—AR12 is amended to delete
Satellite, FL NDB | Lotus, FL FIX | 18000
| MAA-45000
Atlantic Routes—AR14 is amended to delete
*Metta, SC FIX | Dixon, NC NDB/DME | 18000
*18000-MRA | MAA-45000
§ 95.6001 Victor Routes—U.S.
§ 95.6009 VOR Federal Airway V9 is amended to read in part
St Louis, MO VORTAC | Spinner, IL VORTAC | *2700
*2100-MOCA
Spinner, IL VORTAC | Pontiac, IL VOR/DME | *3000
*2300-MOCA
§ 95.6050 VOR Federal Airway V50 is amended to read in part
Quincy, IL VORTAC | Spinner, IL VORTAC | *3000
*2100-MOCA
Spinner, IL VORTAC | Decatur, IL VORTAC | 3000
§ 95.6067 VOR Federal Airway V67 is amended to read in part
Vandalia, IL VORTAC | Spinner, IL VORTAC | 2500
Spinner, IL VORTAC | Burlington, IA VORTAC | 2500
§ 95.6069 VOR Federal Airway V69 is amended to read in part
Troy, IL VORTAC | Spinner, IL VORTAC | 2500
Spinner, IL VORTAC | Pontiac, IL VOR/DME | *3000
*2300-MOCA
§ 95.6129 VOR Federal Airway V129 is amended to read in part
Spinner, IL VORTAC | Peoria, IL VORTAC | 2500
*2000-MOCA
§ 95.6173 VOR Federal Airway V173 is amended to read in part
Spinner, IL VORTAC | Peotone, IL VORTAC | 4500
*2300-MOCA
§ 95.6233 VOR Federal Airway V233 is amended to read in part
Spinner, IL VORTAC | Roberts, IL VOR/DME | 2600
§ 95.6263 VOR Federal Airway V263 is amended by adding
Encia, NM FIX | Albuquerque, NM VORTAC | 8000
§ 95.6492 VOR Federal Airway V492 is amended to read in part
Palm Beach, FL VORTAC | Stoop, FL FIX | *3000
*2000-MOCA
Stoop, FL FIX | Melbourne, FL VOR/DME | 3000
§ 95.6536 VOR Federal Airway V536 is amended by adding
Great Falls, MT VORTAC | Swedd, MT FIX | *12000
*9700-MOCA
Swedd, MT FIX | Menar, MT FIX | *9700
*9100-MOCA
Menar, MT FIX | Bozeman, MT VOR/DME | 8500
§ 95.6537 VOR Federal Airway V537 is amended by adding
Palm Beach, FL VORTAC | Stoop, FL FIX | *3000
*2000-MOCA
Stoop, FL FIX | Vero Beach, FL VORTAC | *2000
*1500-MOCA
§ 95.6328 Alaska VOR Federal Airway V328 is amended to read in part
Brous, AK FIX | Acate, AK FIX | *9000
*5500-MOCA
*6000-GNSS MEA
§ 95.6334 Alaska VOR Federal Airway V334 is amended to read in part
Augey, AK FIX | Clams, AK FIX | *7000
*2000-MOCA
*2000-GNSS MEA
§ 95.6357 Alaska VOR Federal Airway V357 is amended to read in part
Mocho, AK FIX | Gerks, AK FIX | *7500
*2300-MOCA
*7000-GNSS MEA
Gerks, AK FIX | Saner, AK FIX | *9000
*3700-MOCA
*7000-GNSS MEA
§ 95.6385 Alaska VOR Federal Airway V385 is amended to read in part
Emmonak, AK VOR/DME | Unalakleet, AK VOR/DME | *3500
*2800-MOCA
*3000-GNSS MEA
§ 95.6427 Alaska VOR Federal Airway V427 is amended to read in part
Ringo, AK FIX | Nonda, AK FIX | *14000
*9000-MOCA
*9000-GNSS MEA
Tommy, AK FIX | Ringo, AK FIX | *7000
*5300-MOCA
*6000-GNSS MEA
§ 95.6436 Alaska VOR Federal Airway V436 is amended to read in part
Pipet, AK FIX | Bixer, AK FIX | *5000
*3700-MOCA
*4000-GNSS MEA
Artic, AK FIX | Pipet, AK FIX | *6000
*4500-MOCA
*5000-GNSS MEA
§ 95.6440 Alaska VOR Federal Airway V440 is amended to read in part
Ganes, AK FIX | Yucon, AK FIX | *8000
*5600-MOCA
*7000-GNSS MEA
Migan, AK FIX | *Winor, AK FIX | **10000
*8600-MCA WINOR, AK FIX, E BND
**8900-MOCA
**9000-GNSS MEA
§ 95.6441 Alaska VOR Federal Airway V441 is amended to read in part
Broil, AK FIX | Chick, AK FIX | *9000
*6800-MOCA
*9000-GNSS MEA
§ 95.6456 Alaska VOR Federal Airway V456 is amended to read in part
Bitop, AK FIX | *Nosky, AK FIX | **9000
*12000-MCA NOSKY, AK FIX , NE BND
**5400-MOCA
**7000-GNSS MEA, NE BND
**6000-Opposite GNSS MEA, SW BND
Tanie, AK FIX | King Salmon, AK VORTAC | #*3000
*1300-MOCA
*2000-GNSS MEA
#14000 SW When DLG FSS Shut Down
Nosky, AK FIX | Tucks, AK FIX | *13000
*12000-MOCA
*12000-GNSS MEA
Binal, AK FIX | Tanie, AK FIX | #*14000
*3400-MOCA
*8000-GNSS MEA
#MEA is established with a gap in navigation signal coverage
§ 95.6506 Alaska VOR Federal Airway V506 is amended to read in part
*Johni, AK FIX | Dacia, AK FIX | **8000
*9500-MRA
**3200-MOCA
**4000-GNSS MEA
Marsi, AK FIX | *Johni, AK FIX | #**8000
*9500-MRA
**3200-MOCA
**4000-GNSS MEA
#MEA is established with a gap in navigation signal coverage
Baily, AK FIX | *Bremi, AK FIX | **12000
*7000-MCA BREMI, AK FIX, E BND
**9700-MOCA
**10000-GNSS MEA
Baime, AK FIX | Setup, AK FIX | *7000
*5700-MOCA
*6000-GNSS MEA
Shokk, AK FIX | Meade, AK FIX | *10000
*7000-MOCA
*8000-GNSS MEA
Kowok, AK FIX | Cayon, AK FIX | *8000
*7000-MOCA
*7000-GNSS MEA
Hotham, AK NDB | Shokk, AK FIX | *6000
*5000-MOCA
*5000-GNSS MEA
§ 95.6507 Alaska VOR Federal Airway V507 is amended to read in part
Photo, AK FIX | Eskar, AK FIX | *13000
*6000-MOCA
*6000-GNSS MEA
§ 95.6508 Alaska VOR Federal Airway V508 is amended to read in part
*Sewar, AK FIX | **Skila, AK FIX | ***9000
*9500-MRA
**5800-MCA SKILA, AK FIX, E BND
**7500-MOCA
**8000-GNSS MEA
§ 95.6510 Alaska VOR Federal Airway V510 is amended to read in part
Migan, AK FIX | Klart, AK FIX | *10000
*8800-MOCA
*9000-GNSS MEA

From | To | MEA | MAA
§ 95.7001 Jet Routes
§ 95.7035 Jet Route J35 is amended to read in part
St Louis, MO VORTAC | Spinner, IL VORTAC | 18000 | 45000
Spinner, IL VORTAC | Pontiac, IL VOR/DME | 18000 | 31000
§ 95.7080 Jet Route J80 is amended to read in part
Kansas City, MO VORTAC | Spinner, IL VORTAC | 18000 | 45000
Spinner, IL VORTAC | Brickyard, IN VORTAC | 18000 | 45000
§ 95.7101 Jet Route J101 is amended to read in part
St Louis, MO VORTAC | Spinner, IL VORTAC | 18000 | 45000
Spinner, IL VORTAC | Pontiac, IL VOR/DME | 18000 | 31000
§ 95.7137 Jet Route J137 is amended to read in part
Spinner, IL VORTAC | Farmington, MO VORTAC | 18000 | 45000

[FR Doc. 05-19744 Filed 9-30-05; 8:45 am]

BILLING CODE 4910-13-P